DEPARTMENT OF COMMERCE

National Oceanic and Atmospheric Administration

RIN 0648-XC105

Endangered and Threatened Species; Take of Anadromous Fish

AGENCY: National Marine Fisheries Service (NMFS), National Oceanic and Atmospheric Administration (NOAA), Commerce.

ACTION: Receipt of application for scientific research and enhancement.

SUMMARY: Notice is hereby given that NMFS has received a scientific research and enhancement permit application request relating to anadromous species listed under the Endangered Species Act (ESA). The proposed research activities are intended to increase knowledge of the species and to help guide management and conservation efforts.

DATES: Written comments on the permit application must be received at the appropriate address or fax number (see ADDRESSES) no later than 5 p.m. Pacific standard time on August 17, 2012.

ADDRESSES: The application and related documents may be viewed online at: https://apps.nmfs.noaa.gov/preview/preview_open_for_comment.cfm. These documents are also available upon written request or by appointment by contacting NMFS by phone (916) 930-3706 or fax (916) 930-3629. Written comments on the application should be submitted to the Protected Resources Division, NMFS, 650 Capitol Mall, Room 5-100, Sacramento, CA 95814. Comments may also be submitted via fax to (916) 930-3629 or by email to FRNpermits.SR@noaa.gov.

FOR FURTHER INFORMATION CONTACT: Amanda Cranford, Sacramento, CA (ph.: 916-930-3706, email: Amanda.Cranford@noaa.gov).

SUPPLEMENTARY INFORMATION:

Species Covered in This Notice

This notice is relevant to federally threatened California Central Valley steelhead (Oncorhynchus mykiss), threatened Central Valley spring-run Chinook salmon (O. tshawytscha), endangered Sacramento River winter-run Chinook salmon (O. tshawytscha), and threatened southern distinct population segment of North American (sDPS) green sturgeon (Acipenser medirostris).

Authority

Scientific research permits are issued in accordance with section 10(a)(1)(A) of the ESA of 1973 (16 U.S.C. 1531-1543) and regulations governing listed fish and wildlife permits (50 CFR parts 222-226). NMFS issues permits based on findings that such permits: (1) Are applied for in good faith; (2) if granted and exercised, would not operate to the disadvantage of the listed species which are the subject of the permits; and (3) are consistent with the purposes and policies set forth in section 2 of the ESA. The authority to take listed species is subject to conditions set forth in the permits.

Anyone requesting a hearing on the applications listed in this notice should set out the specific reasons why a hearing on the application(s) would be appropriate (see ADDRESSES). Such hearings are held at the discretion of the Assistant Administrator for Fisheries, NMFS.

Application Received

Permit 16543

The Department of Water Resources (DWR) is requesting a 3-year scientific research and enhancement permit to take adult CCV steelhead, Sacramento River winter-run Chinook salmon, Central Valley spring-run Chinook salmon, and both adult and juvenile sDPS green sturgeon associated with research activities in the Sacramento-San Joaquin Delta, California. In the studies described below, all take will be incidental and non-lethal. Application 16543 was previously noticed in the Federal Register (76 FR 57717) with a 30 day comment period from September 16, 2011 to October 17, 2011. No comments were received for this application, however due to substantial changes to the sampling methods and the amount take NMFS decided to publish the revised notice for public comment.

This project will examine predation by introduced fishes (striped bass, largemouth bass, smallmouth bass) and native resident fishes (Sacramento pikeminnow) on migrating native fishes (juvenile Chinook salmon, juvenile steelhead, delta and longfin smelt, white and green sturgeon, and Sacramento splittail) across a variety of habitats and migration corridors in the northern Sacramento-San Joaquin Delta. Results will provide information on spatial and environmental patterns of predation; critical information for guiding future restoration projects on conditions likely to support or discourage higher predation rates on endangered and native fishes. The sampling will be conducted in April, June and December in the Sacramento River above Rio Vista, Georgiana, Steamboat, Miner, and Cache sloughs, the Sacramento Deep Water Ship Channel, and Liberty Island. Sampling months were selected based on likely periods of co-occurrence of predators and prey species of interest. Predators will be sampled using trammel nets, with the goal of genetically analyzing their gut contents for the DNA of various prey items.

While listed species are not the target of the sampling program, incidental take may occur and will provide valuable information on abundance, habitat use, and migration timing.

Dated: July 13, 2012.
Angela Somma,
Chief, Endangered Species Division, Office of Protected Resources, National Marine Fisheries Service.

[FR Doc. 2012-17487 Filed 7-17-12; 8:45 am]

BILLING CODE 3510-22-P